DEPARTMENT OF HEALTH AND HUMAN SERVICES

Health Resources and Services Administration

Advisory Committee; Notice of Meeting

In accordance with section 10(a)(2) of the Federal Advisory Committee Act (Pub. L. 92-463), announcement is made of the following National Advisory body scheduled to meet during the month of June 2002.

The National Advisory Committee on Rural Health will convene its forty-first meeting in the time and place specified below:

Name: National Advisory Committee on Rural Health.

Dates and Times: June 9, 2002; 10:30 a.m.-4:15 p.m.; June 10, 2002; 8:30 a.m.-3:30 p.m.; June 11, 2002; 7:30 a.m.-9:30 a.m.

Place: Sheraton El Conquistador, 10000 N. Oracle Road, Tucson, AZ 58737, Phone: 520-544-5000.

Copper Queen Plaza, 2 Copper Queen Plaza Road, Bisbee, AZ 85603-0414, Phone: 520-366-0066.

The meeting is open to the public.

Purpose: The National Advisory Committee on Rural Health provides advice and recommendations to the Secretary with respect to the delivery, research, development and administration of health care services in rural areas.

Agenda: Sunday, June 9, at the Sheraton El Conquistador at 10:30 a.m. the chairperson, the Honorable David Beasley, will open the meeting and welcome the Committee members. The first plenary session will be a breakout session for the Quality and Workforce workgroups. This will be followed by a lunch program during which the Committee will hear presentations on the healthcare infrastructure and chronic disease at the Border. Lunch will not be provided to the general public. Beginning at 1:30 p.m. the presentations will include discussions by the U.S.-Mexico Border Health Commission on general health issues at the Border and a discussion on the impact of undocumented aliens on the healthcare infrastructure.

Monday, June 10, at 8:30 a.m. the Committee will depart to Bisbee, Arizona, for the remainder of the meeting. At 10:30 a.m. the Committee will tour the Copper Queen Hospital. Transportation to these locations will not be provided to the general public. From 11:30 a.m. to 3:30 p.m. at the Copper Queen Plaza the Committee will hear presentations on the effects of the closure of hospitals obstetric units on area clinics, the impact of uncompensated care from Naco and Aqua Prieta residents on border hospitals, the effects of the closure of a long-term care unit, the Emergency Medical Treatment and Active Labor Act, and obtaining healthcare resources across the border.

The final plenary session will be convened on Tuesday, June 11. Beginning at 7:30 a.m. there will be a review of the site visit and reports from the workgroups. The meeting will conclude with a discussion of what issues to raise in the Committee's meeting summary that will be sent to the Secretary. The meeting will be adjourned at 9:30 a.m.

Anyone requiring information regarding the subject Committee should contact Marcia K. Brand, Ph.D., Executive Secretary, National Advisory Committee on Rural Health, Health Resources and Services Administration, Room 9A-55, Parklawn Building, 5600 Fishers Lane, Rockville, MD 20857, telephone (301) 443-0835, Fax (301) 443-2803.

Persons interested in attending any portion of the meeting should contact Michele Pray, Office of Rural Health Policy (ORHP), (301) 443-0835. The National Advisory Committee meeting agenda will be posted on ORHP's Web site, http://www.ruralhealth.hrsa.gov.

Dated: May 23, 2002.
Jane M. Harrison,
Director, Division of Policy Review and Coordination.

[FR Doc. 02-13464 Filed 5-29-02; 8:45 am]

BILLING CODE 4165-15-P